FEDERAL MINE SAFETY AND HEALTH REVIEW COMMISSION

Sunshine Act Meeting Notice

May 30, 2014.

TIME AND DATE: 10 a.m., Wednesday, June 18, 2014.

PLACE: The Richard V. Backley Hearing Room, Room 511N, 1331 Pennsylvania Avenue NW., Washington, DC 20004 (entry from F Street entrance).

STATUS: Open.

MATTERS TO BE CONSIDERED: The Commission will consider and act upon the following in open session: Secretary of Labor v. Emerald Coal Resources, LP, Docket Nos. PENN 2009-697, et al.; Secretary of Labor v. Emerald Coal Resources, LP, Docket Nos. PENN 2010-445-R, et al.; Secretary of Labor v. Emerald Coal Resources, LP, Docket No. PENN 2011-168; Secretary of Labor v. Cumberland Coal Resources, LP, Docket No. PENN 2012-278. (Issues include whether the Administrative Law Judges erred in concluding that impermissible accumulations of coal existed.)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2014-13057 Filed 6-4-14; 11:15 am]

BILLING CODE 6735-01-P